DEPARTMENT OF THE TREASURY

Customs Service

Triennial Status Report and Status Report Fee: General Notice

AGENCY: U.S. Customs Service, Department of the Treasury.

ACTION: Notice of due date for status report and fee.

SUMMARY: This is to advise Customs brokers that the Triennial Status Report Fee of $100 that is assessed for each license held by a broker whether it may be an individual, partnership, association or corporation, is due during the month of February 2003 along with the corresponding status report.

SUPPLEMENTARY INFORMATION: In accordance with 19 U.S.C. 1641(g) and 19 CFR 111.30(d), each broker must file a written status report and pay the corresponding fee of $100 every three years. The report is due every three years regardless of the date the license was issued to the broker. The last status report and fee were due during the month of February 2000. Reports and fees must next be filed during the month of February 2003. They should be delivered to the director of the port that originally delivered the license to the broker. No reports or fees should be submitted directly to Customs Headquarters.

The elements that must be included in the report are prescribed in 19 CFR 111.30(d). While no particular format is required, a model report may be obtained from your local Customs Service Port.

DATES: Due date for payment of fee: February 28, 2003.

FOR FURTHER INFORMATION CONTACT: Scott J. Nielsen, Broker Management, (202) 927-0380.

Dated: November 21, 2002.
Jayson P. Ahern,
Assistant Commissioner, Office of Field Operations.

[FR Doc. 02-30360 Filed 11-29-02; 8:45 am]

BILLING CODE 4820-02-P